NUCLEAR REGULATORY COMMISSION

Experts' Meeting on Burnup Credit in Spent Fuel Shipping Casks

AGENCY: Nuclear Regulatory Commission.

ACTION: Notice of meeting.

SUMMARY: The Nuclear Regulatory Commission will hold a meeting to develop a Phenomena Identification and Ranking Table (PIRT) for allowing burnup credit in spent fuel shipping casks. PIRTs have been used at NRC since 1988, and they provide a structured way to obtain a technical understanding that is needed to address certain issues. About fifteen of the world's best technical experts are participating in this activity, and the experts represent a balance between industry, universities, foreign researchers, and regulatory organizations. The PIRT activity is addressing technical issues related to burnup credit in the criticality safety analyses of PWR spent fuel in transport casks.

DATE: May 16-18, 2000, 8:30 am-5:30 pm.

ADDRESSES: Atomic Safety and Licensing Board Panel Hearing Room (T3B45) of the Nuclear Regulatory Commission, 11545 Rockville Pike, Rockville, MD.

SUPPLEMENTARY INFORMATION: The meeting agenda will be posted on the NRC Web site at www.nrc.gov/RES/meetings.html by May 1, 2000. The meeting is open to the public. Attendees will need to obtain a visitor badge at the TWFN building lobby, but an escort is not required.

FOR FURTHER INFORMATION CONTACT: Dr. David Ebert, SMSAB, Division of Systems Analysis and Regulatory Effectiveness, Office of Nuclear Regulatory Research, Washington, D.C. 20555-0001, telephone (301) 415-6501; email dde@nrc.gov.

Dated at Rockville, Maryland, this 11th day of April 2000.
For the Nuclear Regulatory Commission.
Charles E. Rossi,
Director, Division of Systems Analysis and Regulatory Effectiveness, Office of Nuclear Regulatory Research.

[FR Doc. 00-9469 Filed 4-14-00; 8:45 am]

BILLING CODE 7590-01-P